DEPARTMENT OF COMMERCE

Census Bureau

Agency Information Collection Activities; Submission to the Office of Management and Budget (OMB) for Review and Approval; Comment Request; Monthly Wholesale Trade Survey

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on October 6, 2022 during a 60-day comment period. This notice allows for an additional 30 days for public comments.

Agency: U.S. Census Bureau, Department of Commerce.

Title: Monthly Wholesale Trade Survey.

OMB Control Number: 0607-0190.

Form Number(s): SM4217-A, SM4217-E.

Type of Request: Regular submission, Request for an Extension, without Change, of a Currently Approved Collection.

Number of Respondents: 4,200.

Average Hours per Response: 7 minutes.

Burden Hours: 5,880.

Needs and Uses: The U.S. Census Bureau requests a three-year extension of the Monthly Wholesale Trade Survey (MWTS). The MWTS canvasses firms primarily engaged in merchant wholesale trade that are located in the United States, excluding manufacturers' sales branches and offices (MSBOs). This survey provides the only continuous measure of monthly wholesale sales, end-of-month inventories, and inventories-to-sales ratios. The sales and inventories estimates produced from the MWTS provide current trends of economic activity by kind of business for the United States. Also, the estimates compiled from this survey provide valuable information for economic policy decisions by the government and are widely used by private businesses, trade organizations, professional associations, and other business research and analysis organizations.

Estimates from the MWTS are released in three different reports each month. High level aggregate estimates for end-of-month inventories are first released as part of the Advance Economic Indicators Report. Second, the full Monthly Wholesale Trade Report containing both sales and inventories estimates is released. Lastly, high level sales and inventories estimates from the MWTS are also released as part of the Manufacturing and Trade Inventories and Sales (MTIS) report.

The MWTS sales estimates are also used as an input in the Monthly Real Dollar Estimates of Wholesale Sales experimental data product, first published on September 19, 2022, which is a supplement to the MWTS report. The estimates were created from the nominal MWTS sales series using product weights developed from existing Census Bureau data releases and price indexes from the BLS. Within the report, real dollar sales estimates and corresponding residuals are available for Total Merchant Wholesalers, except Manufacturers' Sales Branches and Offices, as well as the two 3-digit and eighteen 4-digit North American Industry Classification System (NAICS) wholesale subsectors. Monthly estimates are available from January 2012 forward and are published with the MWTS report each month.

As one of the Census Bureau's principal economic indicators, the estimates produced by the MWTS are critical to the accurate measurement of total economic activity of the United States. The estimates of sales made by wholesale locations represent only merchant wholesalers, excluding MSBOs, who typically take title to goods bought for resale and sell to other businesses. The sales estimates include sales made on credit as well as on a cash basis, but exclude receipts from sales taxes and interest charges from credit sales.

The estimates of inventories represent all merchandise held in wholesale locations, warehouses, and offices, as well as goods held by others for sale on consignment or in transit for distribution to wholesale establishments. The estimates of inventories exclude fixtures and supplies not for resale, as well as merchandise held on consignment, which are owned by others. Inventories are an important component in the Bureau of Economic Analysis' (BEA) calculation of the investment portion of the Gross Domestic Product (GDP).

The Census Bureau publishes wholesale sales and inventories estimates based on the North American Industry Classification System (NAICS), which has been widely adopted throughout both the public and private sectors.

The Census Bureau tabulates the collected data to provide, with measurable reliability, statistics on sales, end-of-month inventories, and inventories-to-sales ratios for merchant wholesalers, excluding MSBOs.

The BEA is the primary Federal user of data collected in the MWTS. The BEA uses estimates from this survey to prepare the national income and product accounts (NIPA), input-output accounts (I-O), and gross domestic product (GDP) by industry. End-of-month inventories are used to prepare the change in private inventories component of GDP. The BEA also uses the Advance Economic Indicators Report to improve the inventory valuation adjustments applied to estimates of the Advance Gross Domestic Product. Sales are used to prepare estimates of real inventories-to-sales ratios in the NIPAs, extrapolate proprietors' income for wholesalers (until tax return data become available) in the NIPAs, and extrapolate annual current-dollar gross output for the most recent year in annual I-O tables, GDP-by-industry, and advance GDP-by-industry estimates.

The Bureau of Labor Statistics uses the data as input to its Producer Price Indexes and in developing productivity measurements. Private businesses use the wholesale sales and inventories data in computing business activity indexes. Other government agencies and businesses use this information for market research, product development, and business planning to gauge the current trends of the economy.

Affected Public: Business or other for-profit organizations.

Frequency: Monthly.

Respondent's Obligation: Voluntary.

Legal Authority: Title 13 U.S.C., Sections 131 and 182.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0607-0190.

Sheleen Dumas,
Department PRA Clearance Officer, Office of the Chief Information Officer, Commerce Department.

[FR Doc. 2022-27629 Filed 12-19-22; 8:45 am]

BILLING CODE 3510-07-P